DEPARTMENT OF TRANSPORTATION

National Highway Traffic Safety Administration

49 CFR Part 541

[Docket No. NHTSA-2005-20278]

Final Theft Data; Motor Vehicle Theft Prevention Standard

AGENCY: National Highway Traffic Safety Administration (NHTSA), Department of Transportation.

ACTION: Publication of final theft data.

SUMMARY: This document publishes the final data on thefts of model year (MY) 2004 passenger motor vehicles that occurred in calendar year (CY) 2004. The final 2004 theft data indicate a decrease in the vehicle theft rate experienced in CY/MY 2004. The final theft rate for MY 2004 passenger vehicles stolen in calendar year 2004 (1.83 thefts per thousand vehicles) decreased by 0.54 percent from the theft rate for CY/MY 2003 (1.84 thefts per thousand vehicles) when compared to the theft rate experienced in CY/MY 2003. Publication of these data fulfills NHTSA's statutory obligation to periodically obtain accurate and timely theft data and publish the information for review and comment.

FOR FURTHER INFORMATION CONTACT: Ms. Deborah Mazyck, Office of International Policy, Fuel Economy and Consumer Programs, NHTSA, 400 Seventh Street, SW., Washington, DC 20590. Ms. Mazyck's telephone number is (202) 366-0846. Her fax number is (202) 493-2290.

SUPPLEMENTARY INFORMATION: NHTSA administers a program for reducing motor vehicle theft. The central feature of this program is the Federal Motor Vehicle Theft Prevention Standard, 49 CFR part 541. The standard specifies performance requirements for inscribing and affixing vehicle identification numbers (VINs) onto certain major original equipment and replacement parts of high-theft lines of passenger motor vehicles.

The agency is required by 49 U.S.C. 33104(b)(4) to periodically obtain, from the most reliable source, accurate and timely theft data and publish the data for review and comment. To fulfill this statutory mandate, NHTSA has published theft data annually beginning with MYs 1983/84. Continuing to fulfill the § 33104(b)(4) mandate, this document reports the final theft data for CY 2004, the most recent calendar year for which data are available.

In calculating the 2004 theft rates, NHTSA followed the same procedures it used in calculating the MY 2003 theft rates. (For 2003 theft data calculations, see 70 FR 46092, August 9, 2005). As in all previous reports, NHTSA's data were based on information provided to NHTSA by the National Crime Information Center (NCIC) of the Federal Bureau of Investigation. The NCIC is a government system that receives vehicle theft information from nearly 23,000 criminal justice agencies and other law enforcement authorities throughout the United States. The NCIC data also include reported thefts of self-insured and uninsured vehicles, not all of which are reported to other data sources.

The 2004 theft rate for each vehicle line was calculated by dividing the number of reported thefts of MY 2004 vehicles of that line stolen during calendar year 2004 by the total number of vehicles in that line manufactured for MY 2004, as reported to the Environmental Protection Agency (EPA).

The final 2004 theft data show a decrease in the vehicle theft rate when compared to the theft rate experienced in CY/MY 2003. The final theft rate for MY 2004 passenger vehicles stolen in calendar year 2004 decreased to 1.83 thefts per thousand vehicles produced, a decrease of 0.54 percent from the rate of 1.84 thefts per thousand vehicles experienced by MY 2003 vehicles in CY 2003. For MY 2004 vehicles, out of a total of 230 vehicle lines, 22 lines had a theft rate higher than 3.5826 per thousand vehicles, the established median theft rate for MYs 1990/1991. (See 59 FR 12400, March 16, 1994). Of the 22 vehicle lines with a theft rate higher than 3.5826, 20 are passenger car lines, one is a multipurpose passenger vehicle line, and one is a light-duty truck line.

The MY 2004 theft rate reduction is consistent with the general decreasing trend of theft rates over the past eleven years as indicated by Figure 1.

The agency believes that the theft rate reduction could be the result of several factors including the increased use of standard antitheft devices (i.e., immobilizers), vehicle partsmarking, increased and improved prosecution efforts by law enforcement organizations and, increased public awareness measures.

On Tuesday, May 2, 2006, NHTSA published the preliminary theft rates for CY 2004 passenger motor vehicles in the Federal Register (71 FR 25803). The agency tentatively ranked each of the MY 2004 vehicle lines in descending order of theft rate. The public was requested to comment on the accuracy of the data and to provide final production figures for individual vehicle lines. The agency used written comments to make the necessary adjustments to its data.

The agency received a written comment from Volkswagen of America, Inc. (VW). In its comments, VW informed the agency that the Lamborghini Gallardo and the Lamborghini L-140/141 are the same vehicle. The vehicles had been erroneously listed as two entries. The correct production volume and number of thefts were correctly reported under the Gallardo entry. Therefore, the L-140/141 entry has been deleted. Additionally, VW commented that the Lamborghini L-147/148 entry should be correctly listed as the Lamborghini Murcielago. The final theft data have been revised to reflect these changes. Volkswagen also informed the agency that Rolls Royce was incorrectly listed as the manufacturer for the Arnage and Continental entries. The final theft data have been revised to reflect that Bentley is the manufacturer for the Arnage and the Continental vehicles.

The following list represents NHTSA's final calculation of theft rates for all 2004 passenger motor vehicle lines. This list is intended to inform the public of calendar year 2004 motor vehicle thefts of model year 2004 vehicles and does not have any effect on the obligations of regulated parties under 49 U.S.C. Chapter 331, Theft Prevention.

Final Report of Theft Rates for Model Year 2004 Passenger Motor Vehicles Stolen in Calendar Year 2004
Manufacturer | Make/model (line) | Thefts 2004 | Production (Mfr's) 2004 | 2004 Theft rate (per 1,000 vehicles produced)
1. DAIMLERCHRYSLER | DODGE INTREPID | 662 | 67,289 | 9.8382
2. TOYOTA | TUNDRA PICKUP | 135 | 14,660 | 9.2087
3. DAIMLERCHRYSLER | DODGE STRATUS | 1,047 | 140,248 | 7.4653
4. DAIMLERCHRYSLER | CHRYSLER SEBRING | 525 | 90,897 | 5.7758
5. HONDA | ACURA NSX | 1 | 198 | 5.0505
6. GENERAL MOTORS | OLDSMOBILE ALERO | 346 | 69,534 | 4.9760
7. GENERAL MOTORS | CHEVROLET MALIBU CLASSIC | 464 | 98,025 | 4.7335
8. DAIMLERCHRYSLER | CHRYSLER CONCORDE | 108 | 2,879 | 4.7205
9. MITSUBISHI | DIAMANTE | 19 | 4,135 | 4.5949
10 SUBARU | IMPREZA | 177 | 8,806 | 4.5612
11. MITSUBISHI | MONTERO SPORT | 24 | 5,414 | 4.4330
12. GENERAL MOTORS | CHEVROLET MONTE CARLO | 268 | 62,391 | 4.2955
13. DAIMLERCHRYSLER | DODGE NEON | 498 | 117,601 | 4.2347
14. MITSUBISHI | ECLIPSE | 74 | 17,682 | 4.1850
15. NISSAN | SENTRA | 504 | 122,208 | 4.1241
16. FORD MOTOR CO. | FORD MUSTANG | 541 | 135,734 | 3.9857
17. NISSAN | INFINITI Q45 | 4 | 1,006 | 3.9761
18. KIA | RIO | 145 | 37,599 | 3.8565
19. DAIMLERCHRYSLER | CHRYSLER SEBRING CONVERTIBLE | 248 | 64,442 | 3.8484
20. MITSUBISHI | GALANT | 165 | 42,902 | 3.8460
21. GENERAL MOTORS | PONTIAC GRAND AM | 639 | 171,925 | 3.7167
22. HYUNDAI | ACCENT | 155 | 2,863 | 3.6162
23. MITSUBISHI | LANCER | 140 | 42,776 | 3.2729
24. MITSUBISHI | ENDEAVOR | 177 | 56,030 | 3.1590
25. GENERAL MOTORS | PONTIAC SUNFIRE | 114 | 36,176 | 3.1513
26. NISSAN | ALTIMA | 273 | 88,348 | 3.0901
27. GENERAL MOTORS | CHEVROLET CAVALIER | 658 | 215,275 | 3.0566
28. TOYOTA | SCION XB | 73 | 25,098 | 2.9086
29. KIA | OPTIMA | 186 | 66,397 | 2.8013
30. FORD MOTOR CO. | FORD FOCUS | 302 | 109,050 | 2.7694
31. GENERAL MOTORS | CHEVROLET IMPALA | 743 | 269,733 | 2.7546
32. SUZUKI | VERONA | 44 | 16,478 | 2.6702
33. BMW | 7 | 43 | 16,245 | 2.6470
34. GENERAL MOTORS | CADILLAC SEVILLE | 16 | 6,222 | 2.5715
35. ISUZU | RODEO | 43 | 16,863 | 2.5500
36. NISSAN | MAXIMA | 301 | 119,146 | 2.5263
37. TOYOTA | CELICA | 21 | 8,483 | 2.4755
38. DAIMLERCHRYSLER | CHRYSLER PT CRUISER | 255 | 104,558 | 2.4388
39. BMW | M3 | 21 | 8,632 | 2.4328
40. KIA | AMANTI | 46 | 9,363 | 2.3757
41. GENERAL MOTORS | PONTIAC AZTEK | 49 | 20,854 | 2.3497
42. FORD MOTOR CO. | FORD TAURUS | 477 | 203,126 | 2.3483
43. MAZDA | 6 | 176 | 75,843 | 2.3206
44. GENERAL MOTORS | CHEVROLET BLAZER S10/T10 | 116 | 50,855 | 2.2810
45. SUZUKI | FORENZA | 57 | 25,032 | 2.2771
46. GENERAL MOTORS | PONTIAC GRAND PRIX | 408 | 179,556 | 2.2723
47. FORD MOTOR CO. | LINCOLN TOWN CAR | 125 | 55,227 | 2.2634
48. FORD MOTOR CO. | LINCOLN LS | 66 | 29,344 | 2.2492
49. SUZUKI | AERIO | 37 | 16,459 | 2.2480
50. MITSUBISHI | OUTLANDER | 50 | 22,336 | 2.2385
51. TOYOTA | COROLLA | 602 | 272,301 | 2.2108
52. GENERAL MOTORS | CHEVROLET CORVETTE | 74 | 33,501 | 2.2089
53. KIA | SPECTRA | 96 | 44,322 | 2.1660
54. NISSAN | 350Z | 87 | 40,255 | 2.1612
55. TOYOTA | LEXUS GS | 21 | 9,756 | 2.1525
56. FORD MOTOR CO. | MERCURY SABLE | 90 | 42,236 | 2.1309
57. TOYOTA | LEXUS IS | 24 | 11,308 | 2.1224
58. FERRARI | 360 | 2 | 950 | 2.1053
59. MERCEDES-BENZ | 170 (SLK-CLASS) | 8 | 3,836 | 2.0855
60. DAIMLERCHRYSLER | CHRYSLER PACIFICA | 192 | 98,340 | 1.9524
61. DAIMLERCHRYSLER | JEEP GRAND CHEROKEE | 617 | 317,381 | 1.9440
62. HONDA | ACURA RSX | 39 | 20,280 | 1.9231
63. DAIMLERCHRYSLER | DODGE DAKOTA PICKUP | 62 | 32,355 | 1.9162
64. FORD MOTOR CO. | FORD CROWN VICTORIA | 63 | 32,977 | 1.9104
65. DAIMLERCHRYSLER | DODGE CARAVAN/GRAND CARAVAN | 162 | 84,965 | 1.9067
66. GENERAL MOTORS | PONTIAC BONNEVILLE | 40 | 21,163 | 1.8901
67. HYUNDAI | ELANTRA | 196 | 103,787 | 1.8885
68. BMW | 6 | 11 | 5,870 | 1.8739
69. JAGUAR | XJR | 4 | 2,179 | 1.8357
70. GENERAL MOTORS | GMC CANYON PICKUP | 39 | 21,402 | 1.8223
71. MAZDA | RX-8 | 64 | 35,147 | 1.8209
72. GENERAL MOTORS | BUICK RENDEZVOUS | 123 | 68,043 | 1.8077
73. JAGUAR | XKR | 1 | 557 | 1.7953
74. DAIMLERCHRYSLER | JEEP LIBERTY | 305 | 173,128 | 1.7617
75. FORD MOTOR CO. | FORD EXPLORER | 515 | 294,622 | 1.7480
76. VOLKSWAGEN | PHAETON | 4 | 2,326 | 1.7197
77. MERCEDES-BENZ | 129 (SL-CLASS) | 20 | 11,928 | 1.6767
78. NISSAN | INFINITI FX35 | 44 | 26,531 | 1.6584
79. DAIMLERCHRYSLER | CHRYSLER 300M | 34 | 20,836 | 1.6318
80. TOYOTA | TACOMA PICKUP | 259 | 159,348 | 1.6254
81. VOLKSWAGEN | R32 | 8 | 5,017 | 1.5946
82. NISSAN | INFINITI G35 | 139 | 87,780 | 1.5835
83. HYUNDAI | TIBURON | 33 | 20,977 | 1.5732
84. GENERAL MOTORS | CHEVROLET TRACKER | 24 | 15,276 | 1.5711
85. HYUNDAI | SONATA | 158 | 101,774 | 1.5525
86. MERCEDES-BENZ | 208 (CLK-CLASS) | 31 | 20,013 | 1.5490
87. GENERAL MOTORS | BUICK CENTURY | 84 | 54,706 | 1.5355
88. GENERAL MOTORS | CADILLAC DEVILLE | 111 | 73,274 | 1.5149
89. FORD MOTOR CO. | FORD THUNDERBIRD | 19 | 12,577 | 1.5107
90. TOYOTA | MATRIX | 91 | 60,311 | 1.5088
91. VOLVO | S40 | 34 | 22,616 | 1.5034
92. GENERAL MOTORS | CHEVROLET TRAILBLAZER | 308 | 209,348 | 1.4712
93. HONDA | S2000 | 11 | 7,511 | 1.4645
94. DAIMLERCHRYSLER | DODGE VIPER | 3 | 2,065 | 1.4528
95. DAIMLERCHRYSLER | JEEP WRANGLER | 132 | 91,631 | 1.4406
96. LAMBORGHINI | GALLARDO | 1 | 697 | 1.4347
97. TOYOTA | CAMRY/SOLARA | 532 | 373,268 | 1.4252
98. TOYOTA | LEXUS SC | 14 | 9,905 | 1.4134
99. MAZDA | MX-5 MIATA | 12 | 8,620 | 1.3921
100. GENERAL MOTORS | GMC ENVOY | 114 | 83,013 | 1.3733
101. MAZDA | 3 | 104 | 75,915 | 1.3700
102. JAGUAR | XJ8 | 15 | 11,048 | 1.3577
103. GENERAL MOTORS | GMC SAFARI VAN | 6 | 4,428 | 1.3550
104. VOLVO | V40 | 4 | 2,963 | 1.3500
105. HONDA | CIVIC | 390 | 289,347 | 1.3479
106. GENERAL MOTORS | CHEVROLET ASTRO VAN | 28 | 20,892 | 1.3402
107. JAGUAR | S-TYPE | 10 | 7,469 | 1.3389
108. GENERAL MOTORS | CHEVROLET AVEO | 92 | 68,741 | 1.3384
109. KIA | SORENTO | 63 | 47,404 | 1.3290
110. GENERAL MOTORS | CHEVROLET MALIBU | 127 | 96,605 | 1.3146
111. FORD MOTOR CO. | FORD EXPLORER SPORT TRAC | 79 | 60,166 | 1.3130
112. NISSAN | FRONTIER PICKUP | 100 | 77,079 | 1.2974
113. GENERAL MOTORS | BUICK PARK AVENUE | 22 | 16,985 | 1.2953
114. SUZUKI | VITARA/GRAND VITARA | 44 | 34,227 | 1.2855
115. DAIMLERCHRYSLER | CHRYSLER CROSSFIRE | 22 | 17,345 | 1.2684
116. AUDI | A4/A4 QUATTRO/S4/S4 AVANT | 59 | 46,660 | 1.2645
117. GENERAL MOTORS | BUICK REGAL | 24 | 18,983 | 1.2643
118. FORD MOTOR CO. | FORD ESCAPE | 133 | 106,309 | 1.2511
119. MERCEDES-BENZ | 203 (C-CLASS) | 64 | 51,630 | 1.2396
120. TOYOTA | SCION XA | 18 | 14,753 | 1.2201
121. NISSAN | INFINITI QX56 | 15 | 12,296 | 1.2199
122. JAGUAR | X-TYPE | 30 | 24,693 | 1.2149
123. VOLVO | S60 | 50 | 41,804 | 1.1961
124. ISUZU | AXIOM | 4 | 3,347 | 1.1951
125. HONDA | ACCORD | 448 | 376,680 | 1.1893
126. NISSAN | INFINITI M45 | 2 | 1,687 | 1.1855
127. VOLKSWAGEN | JETTA | 109 | 92,979 | 1.1723
128. GENERAL MOTORS | CHEVROLET COLORADO | 109 | 93,411 | 1.1669
129. FORD MOTOR CO. | MERCURY GRAND MARQUIS | 104 | 89,130 | 1.1668
130. GENERAL MOTORS | SATURN ION | 141 | 121,109 | 1.1642
131. MAZDA | MPV VAN | 26 | 22,346 | 1.1635
132. VOLVO | S80 | 23 | 19,802 | 1.1615
133. GENERAL MOTORS | PONTIAC MONTANA VAN | 35 | 30,277 | 1.1560
134. HYUNDAI | XG300 | 27 | 24,262 | 1.1129
135. TOYOTA | 4RUNNER | 135 | 122,034 | 1.1062
136. MERCEDES-BENZ | 220 (S-CLASS) | 18 | 16,416 | 1.0965
137. GENERAL MOTORS | PONTIAC GTO | 13 | 12,044 | 1.0794
138. HONDA | ACURA TSX | 50 | 46,494 | 1.0754
139. ISUZU | ASCENDER | 8 | 7,455 | 1.0731
140. NISSAN | XTERRA | 90 | 84,478 | 1.0654
141. PORSCHE | 911 | 10 | 9,546 | 1.0476
142. AUDI | A8 | 8 | 7,654 | 1.0452
143. LAND ROVER | FREELANDER | 5 | 4,795 | 1.0428
144. GENERAL MOTORS | PONTIAC VIBE | 65 | 62,365 | 1.0423
145. BMW | 3 | 106 | 103,092 | 1.0282
146. FORD MOTOR CO. | MERCURY MOUNTAINEER | 52 | 50,580 | 1.0281
147. VOLKSWAGEN | GOLF/GTI | 20 | 20,043 | 0.9979
148. FORD MOTOR CO. | FORD FREESTAR | 104 | 105,280 | 0.9878
149. TOYOTA | MR2 SPYDER | 1 | 1,023 | 0.9775
150. GENERAL MOTORS | BUICK LESABRE | 117 | 119,742 | 0.9771
151. MERCEDES-BENZ | 215 (CL-CLASS) | 2 | 2,125 | 0.9412
152. KIA | SEDONA VAN | 50 | 53,140 | 0.9409
153. BMW | 5 | 45 | 48,009 | 0.9373
154. PORSCHE | BOXSTER | 4 | 4,417 | 0.9056
155. HONDA | ACURA 3.2 TL | 67 | 75,026 | 0.8930
156. TOYOTA | LEXUS LS | 28 | 31,881 | 0.8783
157. DAIMLERCHRYSLER | CHRYSLER TOWN & COUNTRY (MPV) | 49 | 56,361 | 0.8694
158. GENERAL MOTORS | CHEVROLET VENTURE VAN | 66 | 76,777 | 0.8596
159. NISSAN | MURANO | 55 | 64,280 | 0.8556
160. MERCEDES-BENZ | 210 (E-CLASS) | 39 | 45,602 | 0.8552
161. HONDA | ACURA 3.5 RL | 7 | 8,341 | 0.8392
162. BMW | Z4 | 11 | 13,171 | 0.8352
163. MAZDA | TRIBUTE | 25 | 30,524 | 0.8190
164. NISSAN | PATHFINDER | 23 | 28,387 | 0.8102
165. TOYOTA | RAV4 | 62 | 77,643 | 0.7985
166. FORD MOTOR CO. | FORD RANGER PICKUP | 136 | 172,566 | 0.7881
167. GENERAL MOTORS | CADILLAC SRX | 24 | 30,811 | 0.7789
168. GENERAL MOTORS | CADILLAC XLR | 3 | 3,857 | 0.7778
169. GENERAL MOTORS | CADILLAC CTS | 43 | 55,984 | 0.7681
170. GENERAL MOTORS | CHEVROLET S10/T10 PICKUP | 9 | 12,111 | 0.7431
171. GENERAL MOTORS | OLDSMOBILE SILHOUETTE VAN | 7 | 9,420 | 0.7431
172. HONDA | ACURA MDX | 45 | 62,397 | 0.7212
173. GENERAL MOTORS | SATURN LS | 13 | 18,185 | 0.7149
174. AUDI | ALLROAD QUATTRO | 4 | 5,675 | 0.7048
175. TOYOTA | ECHO | 4 | 5,697 | 0.7021
176. TOYOTA | LEXUS RX | 101 | 146,431 | 0.6897
177. VOLKSWAGEN | PASSAT | 48 | 70,878 | 0.6772
178. VOLKSWAGEN | NEW BEETLE | 30 | 44,896 | 0.6682
179. TOYOTA | HIGHLANDER | 82 | 123,726 | 0.6628
180. HYUNDAI | SANTA FE | 86 | 130,385 | 0.6596
181. VOLVO | C70 | 5 | 7,731 | 0.6467
182. TOYOTA | LEXUS ES | 45 | 70,774 | 0.6358
183. AUDI | A6/A6 QUATTRO/S6/S6 AVANT | 10 | 15,885 | 0.6295
184. GENERAL MOTORS | GMC SONOMA PICKUP | 2 | 3,190 | 0.6270
185. NISSAN | QUEST VAN | 40 | 63,930 | 0.6257
186. MAZDA | B SERIES PICKUP | 6 | 9,766 | 0.6144
187. HONDA | ELEMENT | 34 | 56,002 | 0.6071
188. BMW | X3 | 20 | 33,586 | 0.5955
189. VOLVO | XC90 | 31 | 53,323 | 0.5814
190. TOYOTA | LEXUS GX | 25 | 43,789 | 0.5709
191. JAGUAR | VANDEN PLAS/SUPER V8 | 2 | 3,712 | 0.5388
192. NISSAN | INFINITI FX45 | 2 | 3,762 | 0.5316
193. HONDA | ODYSSEY VAN | 66 | 132,919 | 0.4965
194. TOYOTA | AVALON | 25 | 50,663 | 0.4935
195. TOYOTA | SIENNA VAN | 106 | 220,314 | 0.4811
196. NISSAN | INFINITI I35 | 6 | 12,840 | 0.4673
197. SUBARU | LEGACY/OUTBACK | 28 | 61,160 | 0.4578
198. VOLVO | V70 | 7 | 15,335 | 0.4565
199. GENERAL MOTORS | SATURN VUE | 42 | 92,536 | 0.4539
200. SUBARU | BAJA | 1 | 2,208 | 0.4529
201. GENERAL MOTORS | SATURN LW | 1 | 2,226 | 0.4492
202. GENERAL MOTORS | CHEVROLET MALIBU MAXX | 16 | 35,760 | 0.4474
203. HONDA | CR-V | 65 | 153,562 | 0.4233
204. TOYOTA | PRIUS | 20 | 47,970 | 0.4169
205. HONDA | PILOT | 50 | 135,591 | 0.3688
206. VOLVO | XC70 | 9 | 24,528 | 0.3669
207. BMW | MINI COOPER | 11 | 31,126 | 0.3534
208. SUBARU | FORESTER | 22 | 62,733 | 0.3507
209. AUDI | TT | 2 | 5,889 | 0.3396
210. SAAB | 9-3 | 10 | 29,534 | 0.3386
211. GENERAL MOTORS | OLDSMOBILE BRAVADA | 1 | 3,475 | 0.2878
212. SAAB | 9-5 | 2 | 10,101 | 0.1980
213. GENERAL MOTORS | BUICK RAINIER | 4 | 28,987 | 0.1380
214. FORD MOTOR CO. | MERCURY MONTEREY | 2 | 20,632 | 0.0969
215. ASTON MARTIN | VANQUISH | 0 | 79 | 0.0000
216. FERRARI | 575M | 0 | 127 | 0.0000
217. FERRARI | CHALLENGE | 0 | 328 | 0.0000
218. FORD MOTOR CO. | MERCURY MARAUDER | 0 | 3,177 | 0.0000
219. GENERAL MOTORS | CADILLAC FUNERAL COACH/HEARSE | 0 | 973 | 0.0000
220. GENERAL MOTORS | CADILLAC LIMOUSINE | 0 | 778 | 0.0000
221. HONDA | INSIGHT | 0 | 543 | 0.0000
222. JAGUAR | XK8 | 0 | 981 | 0.0000
223. LAMBORGHINI | MURCIELAGO | 0 | 121 | 0.0000
224. LOTUS | ESPRIT | 0 | 39 | 0.0000
225. MASERATI | COUPE/SPYDER | 0 | 793 | 0.0000
226. QUANTUM TECH. | CHEVROLET CAVALIER | 0 | 391 | 0.0000
227. BENTLEY | ARNAGE | 0 | 165 | 0.0000
228. BENTLEY | CONTINENTAL | 0 | 737 | 0.0000
229. ROLLS ROYCE | PHANTOM | 0 | 489 | 0.0000
230. SAAB | 9-7X | 0 | 1,998 | 0.0000

Issued on: September 29, 2006.
Stephen R. Kratzke,
Associate Administrator for Rulemaking.

[FR Doc. E6-16687 Filed 10-6-06; 8:45 am]

BILLING CODE 4910-59-P